ENVIRONMENTAL PROTECTION AGENCY

[FRL-9976-53-Region 5]

Proposed CERCLA Cost Recovery Settlement for Central Transport, Inc. Superfund Site, Romulus, Wayne County, Michigan

Agency: Environmental Protection Agency (EPA).

Action: Notice of availability; request for public comment.

Summary: In accordance with the Comprehensive Environmental Response, Compensation and Liability Act, as amended (CERCLA), notice is given by the Environmental Protection Agency (EPA) Region 5 of a proposed administrative settlement under CERCLA regarding the Central Transport, Inc. Superfund Site (Site) in Romulus, Wayne County, Michigan. Subject to review and comment by the public pursuant to this notice, this settlement resolves a claim by EPA, for recovery of response costs from three related parties who have executed a binding certification of their consent to the settlement, as listed in the SUPPLEMENTARY INFORMATION Section. For thirty (30) days following the date of publication of this notice, EPA will receive written comments relating to the settlement. EPA will consider all comments received and may modify or withdraw its consent to the settlement if comments received disclose facts or considerations that indicate that the settlement is inappropriate, improper, or inadequate.

DATES: Comments must be submitted on or before May 10, 2018.

ADDRESSES: The proposed settlement is available for public inspection at EPA, Region 5, 7th Floor File Room, 77 West Jackson Boulevard, Chicago, Illinois, 60604. You can also obtain a copy of the proposed settlement from Associate Regional Counsel, Cynthia N. Kawakami at (312)886-0564; kawakami.cynthia@epa.gov; or EPA, Office of Regional Counsel, Region 5, 77 West Jackson Boulevard (C-14J), Chicago, Illinois, 60604-3590. All comments on the proposed settlement must be in writing and sent to Ms. Kawakami at her electronic mail address or standard mail address as provided above. All comments should reference the Central Transport, Inc. Site, Romulus, Wayne County, Michigan.

FOR FURTHER INFORMATION CONTACT: Associate Regional Counsel, Cynthia N. Kawakami, EPA, Region 5, 77 West Jackson Boulevard (C-14J), Chicago, Illinois, 60604-3590, (312)886-0564, or via email at kawakami.cynthia@epa.gov.

SUPPLEMENTARY INFORMATION: Notice is given of a proposed administrative settlement under CERCLA regarding the Central Transport, Inc. Superfund Site (Site) in Romulus, Wayne County, Michigan. Subject to review and comment by the public pursuant to this Notice, this settlement resolves a claim under Sections 106, 107(a) and 122 of CERCLA, by EPA, for recovery of response costs from three related parties who have executed a binding certification of their consent to the settlement, as follows. The settlement requires the settling parties to pay a total of $27,000 to the EPA Hazardous Substance Superfund and includes EPA's covenant not to sue the settling parties pursuant to Section 107(a) of CERCLA. For thirty (30) days following the date of publication of this notice, EPA will receive written comments relating to the settlement. EPA will consider all comments received and may modify or withdraw its consent to the settlement if comments received disclose facts or considerations that indicate that the settlement is inappropriate, improper, or inadequate.

Dennis Schreibeis, General Counsel, Crown Enterprises, Inc. has executed a binding certification of the settling parties' consent to participate in the settlement.

Dated: March 27, 2018.
Robert A. Kaplan,
Acting Director, Superfund Division, Region 5.

[FR Doc. 2018-07362 Filed 4-9-18; 8:45 am]

BILLING CODE 6560-50-P